ENVIRONMENTAL PROTECTION AGENCY

[ER-FRL-9045-3]

Environmental Impact Statements; Notice of Availability

Responsible Agency: Office of Federal Activities, General Information 202-564-5632 or https://www.epa.gov/ nepa/.

Weekly receipt of Environmental Impact Statements

Filed 06/03/2019 through 06/07/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190127, Final, NOAA, MA, Jonah Crab Fishery Management Plan, Review Period Ends: 07/15/2019, Contact: Allison Murphy 978-281-9122.

EIS No. 20190128, Final, APHIS, REG, Regulation of the Importation, Interstate Movement, and Intrastate Movement of Plant Pests, Review Period Ends: 07/15/2019, Contact: Colin Stewart 301-851-2237.

EIS No. 20190129, Final, BLM, NV, Rossi Mine Expansion Project, Review Period Ends: 07/15/2019, Contact: Janice Stadelman 775-753-0346.

EIS No. 20190130, Final, BLM, NV, Burning Man Event Special Recreation Permit, Review Period Ends: 07/15/2019, Contact: Mark Hall 775-623-1500.

Amended Notice

EIS No. 20190092, Final Supplement, USACE, AL, Mobile Harbor, Mobile, Alabama Integrated Final General Evaluation Report with Supplemental Environmental Impact Statement, Review Period Ends: 07/18/2019, Contact: Jennifer L. Jacobson 251-690-2724.

Revision to FR Notice Published 06/07/2019; Extending the Comment Period from 06/17/2019 to 07/18/2019.

Dated: June 11, 2019.
Robert Tomiak,
Director, Office of Federal Activities.

[FR Doc. 2019-12595 Filed 6-13-19; 8:45 am]

BILLING CODE 6560-50-P